DEPARTMENT OF TRANSPORTATION

Federal Aviation Administration

14 CFR Part 39

[Docket No. FAA-2009-0324; Directorate Identifier 2008-NM-186-AD]

RIN 2120-AA64

Airworthiness Directives; Airbus Model A300 B4-601, B4-603, B4-605R, B4-620, B4-622, B4-622R, F4-605R, F4-622R, and C4-605R Variant F Series Airplanes Equipped With Simmonds Precision Products, Inc., Fuel Quantity Indicating System Sensors and In-Tank Harnesses Installed in Accordance With Supplemental Type Certificate (STC) ST00092BO

AGENCY: Federal Aviation Administration (FAA), DOT.

ACTION: Notice of proposed rulemaking (NPRM).

SUMMARY: We propose to adopt a new airworthiness directive (AD) for certain Airbus model series airplanes. This proposed AD would require revising the Airworthiness Limitations Section of the Instructions for Continuing Airworthiness to incorporate new fuel system limitations for airplanes modified in accordance with STC ST00092BO. This AD also requires performing a general visual inspection for tank unit separation and compensator separation of the: center, inner, outer fuel tanks, and trim fuel tanks of the tank units, and corrective actions if necessary. This proposed AD results from fuel system reviews conducted by the manufacturer. We are proposing this AD to prevent a potential of ignition sources inside fuel tanks, which in combination with flammable fuel vapors, could result in a fuel tank fire or explosion and consequent loss of the airplane.

DATES: We must receive comments on this proposed AD by May 26, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Goodrich Corporation, Fuel and Utility Systems, 100 Panton Road, Vergennes, Vermont 05491-1008; telephone 802-877-4476; e-mail lgd.TechPubs.Oakville@goodrich.com; Internet http://www.goodrich.com/TechPubs. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Marc Ronell, Aerospace Engineer, ANE-150, FAA, Boston Aircraft Certification Office, 12 New England Executive Park, Burlington, Massachusetts 01803; telephone (781) 238-7776; fax (781) 238-7170.

SUPPLEMENTARY INFORMATION:

Comments Invited

We invite you to send any written relevant data, views, or arguments about this proposed AD. Send your comments to an address listed under the ADDRESSES section. Include “Docket No. FAA-2009-0324; Directorate Identifier 2008-NM-186-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (66 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, single failures in combination with a latent condition(s), and in-service failure experience. For all four criteria, the evaluations included consideration of previous actions taken that may mitigate the need for further action.

We have determined that the actions identified in this AD are necessary to reduce the potential of ignition sources inside fuel tanks, which, in combination with flammable fuel vapors, could result in fuel tank explosions and consequent loss of the airplane.

Relevant Service Information

We have reviewed Goodrich A300-600 Instructions for Continued Airworthiness, Document T3012-0005-0101, Revision B, dated June 12, 2008. The document describes new airworthiness limitations (AWLs) for fuel tank systems. The new AWLs include:

• AWL inspections, which are periodic inspections of certain features for latent failures that could contribute to an ignition source; and

• Critical design configuration control limitations (CDCCL), which are limitation requirements to preserve a critical ignition source prevention feature of the fuel tank system design that is necessary to prevent the occurrence of an unsafe condition. The purpose of a CDCCL is to provide instruction to retain the critical ignition source prevention feature during configuration changes that may be caused by alterations, repairs, or maintenance actions. A CDCCL is not a periodic inspection.

The instructions describe procedures to perform a general visual inspection (GVI) for tank unit separation and compensator separation of the: Center, inner, outer fuel tanks, and trim fuel tanks of the tank units.

We have also reviewed Goodrich Service Bulletin 300723-0101-28-01,

Revision 1, dated July 1, 2004. The service bulletin describes procedures to perform an inspection of each probe and compensator location for sufficient clearance to structure.

Other Related AD

We issued AD 2004-05-05, amendment 39-13499 (69 FR 10319, March 5, 2004) on February 20, 2004, for certain Airbus Model A300-600, A300, and A310 airplanes. We issued that AD to require a one-time inspection of the space between the fuel quantity indication probes and any adjacent structures for minimum clearance and corrective action if necessary.

Doing inspections in accordance with section 2.2.3 of the Goodrich A300-600 Instructions for Continued Airworthiness, Document T3012-0005-0101, Revision B, dated June 12, 2008, and Goodrich Service Bulletin 300723-0101-28-01, Revision 1, dated July 1, 2004, are acceptable methods of compliance for paragraphs (b) and (c) of AD 2004-05-05.

FAA's Determination and Requirements of this Proposed AD

We are proposing this AD because we evaluated all relevant information and determined the unsafe condition described previously is likely to exist or develop in other products of the(se) same type design(s). This proposed AD would require accomplishing the actions specified in the service information described previously, except as described in the “Differences Between the Proposed AD and the Service Information.”

Differences Between the Proposed AD and the Service Information

The service information does not specify initial compliance times for doing GVI for tank unit separation and compensator separation of the: center, inner, outer fuel tanks, and trim fuel tanks of the tank units. This AD requires an initial inspection for the GVI inspections within six months after the effective date of this AD.

The service information does not include corrective actions if incorrect separation is found. This AD also requires, if incorrect separation is found, correction of the separation in accordance with the airplane maintenance manual for the corresponding inspection specified in section 2.2.3 of the Goodrich A300-600 Instructions for Continued Airworthiness, Document T3012-0005-0101, Revision B, dated June 12, 2008.

Costs of Compliance

We estimate that this proposed AD would affect 68 airplanes of U.S. registry. We also estimate that it would take about 8 work-hours per product to comply with this proposed AD. The average labor rate is $80 per work-hour. Based on these figures, we estimate the cost of this proposed AD to the U.S. operators to be $43,520, or $640 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have Federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Simmonds Precision Products, Inc., D/B/A Goodrich Corporation Fuel & Utility Systems: Docket No. FAA-2009-0324; Directorate Identifier 2008-NM-186-AD.

Comments Due Date

(a) We must receive comments by May 26, 2009.

Affected ADs

(b) None.

Applicability

(c) This AD applies to Airbus Model A300 B4-601, B4-603, B4-605R, B4-620, B4-622, B4-622R, F4-605R, F4-622R, and C4-605R Variant F series airplanes, certificated in any category, equipped with Simmonds Precision Products, Inc., Fuel Quantity Indicating System sensors and in-tank harnesses installed in accordance with supplemental type certificate (STC) ST00092BO.

Note 1: This AD requires revisions to certain operator maintenance documents to include new inspections and critical design configuration control limitations (CDCCLs). Compliance with these inspections is required by 14 CFR 91.403(c). For airplanes that have been previously modified, altered, or repaired in the areas addressed by these inspections and CDCCLs, the operator may not be able to accomplish the inspections and CDCCLs, described in the revisions. In this situation, to comply with 14 CFR 91.403(c), the operator must request approval for an alternative method of compliance according to paragraph (o) of this AD. The request should include a description of changes to the required inspections and CDCCLs that will ensure the continued operational safety of the airplane.

Subject

(d) Air Transport Association (ATA) of America Code 28: Fuel.

Unsafe Condition

(e) This AD results from fuel system reviews conducted by the manufacturer. The Federal Aviation Administration is issuing this AD to reduce the potential of ignition sources inside fuel tanks, which in combination with flammable fuel vapors, could result in fuel tank fire or explosions and consequent loss of the airplane.

Compliance

(f) You are responsible for having the actions required by this AD performed within the compliance times specified, unless already done.

Revision to the Airworthiness Limitations Section

(g) Within 30 days after the effective date of this AD, revise the Airworthiness Limitations Section (ALS) of the Instructions for Continued Airworthiness to incorporate the inspections specified in section 2.2.3 of the Goodrich A300-600 Instructions for Continued Airworthiness, Document T3012-0005-0101, Revision B, dated June 12, 2008.

(h) Within six months after the effective date of this AD, do a general visual inspection for tank unit separation and compensator separation of the: center, inner, outer fuel tanks, and trim fuel tanks of the tank units, in accordance with section 2.2.3 of the Goodrich A300-600 Instructions for Continued Airworthiness, Document T3012-0005-0101, Revision B, dated June 12, 2008. If incorrect separation is found, in accordance with section 2.2.3 of the Goodrich A300-600 Instructions for Continued Airworthiness, Document T3012-0005-0101, Revision B, dated June 12, 2008, before further flight, correct the separation in accordance with the airplane maintenance manual for the corresponding inspection specified in section 2.2.3 of the Goodrich A300-600 Instructions for Continued Airworthiness Document T3012-0005-0101, Revision B, dated June 12, 2008. A review of airplane maintenance records is acceptable in lieu of this inspection if the requirement of Table 6 in section 10.1 of the Goodrich A300-600 Instructions for Continued Airworthiness, Document T3012-0005-0101, Revision B, dated June 12, 2008, can be conclusively determined to have been done from that review.

(i) Within 30 days after the effective date of this AD, revise the ALS of the Instructions for Continued Airworthiness to incorporate the CDCCLs as defined in section 10.1 of the Goodrich A300-600 Instructions for Continued Airworthiness, Document T3012-0005-0101, Revision B, dated June 12, 2008.

(j) Except as provided by paragraph (o) of this AD: After accomplishing the actions specified in paragraphs (g) and (i) of this AD, no alternative inspection, inspection intervals, or CDCCLs may be used.

Actions Done According to Previous Service Information

(k) Inspections are acceptable for compliance with the requirements of paragraph (h) of this AD, if done before the effective date of this AD, in accordance with Goodrich Service Bulletin 300723-0101-28-01, dated April 15, 2004.

(l) Inspections are also acceptable for compliance with the requirements of paragraph (h) of this AD, if done in accordance with Goodrich Service Bulletin 300723-0101-28-01, Revision 1, dated July 1, 2004.

Acceptable Methods of Compliance for AD 2004-05-05

(m) Doing the inspections in section 2.2.3 of the Goodrich A300-600 Instructions for Continued Airworthiness Document T3012-0005-0101, Revision B, dated June 12, 2008, is considered an acceptable method of compliance to paragraphs (b) and (c) of AD 2004-05-05, amendment 39-13499.

(n) Doing the inspections in accordance with Goodrich Service Bulletin 300723-0101-28-01, Revision 1, dated July 1, 2004, is an acceptable method of compliance to paragraphs (b) and (c) of AD 2004-05-05.

Alternative Methods of Compliance (AMOCs)

(o)(1) The Manager, Boston Aircraft Certification Office (ACO), FAA, has the authority to approve AMOCs for this AD, if requested using the procedures found in 14 CFR 39.19. Send information to ATTN: Marc Ronell, Aerospace Engineer, ANE-150, FAA, Boston ACO, 12 New England Executive Park, Burlington, Massachusetts 01803; telephone (781) 238-7776; fax (781) 238-7170.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Issued in Renton, Washington, on April 2, 2009.
Ali Bahrami,
Manager, Transport Airplane Directorate, Aircraft Certification Service.

[FR Doc. E9-8081 Filed 4-8-09; 8:45 am]

BILLING CODE 4910-13-P